FEDERAL RESERVE SYSTEM

Formations of, Acquisitions by, and Mergers of Bank Holding Companies; Correction

This notice corrects a notice (FR Doc. E8-7645) published on pages 19851-19852 of the issue for Friday, April 11, 2008.

Under the Federal Reserve Bank of St. Louis heading, the entry for Reliable Community Bancshares, Inc., Perryville, Missouri, is revised to read as follows:

A. Federal Reserve Bank of St. Louis (Glenda Wilson, Community Affairs Officer) 411 Locust Street, St. Louis, Missouri 63166-2034:

1. Reliable Community Bancshares, Inc., Perryville, Missouri; to acquire 100 percent of the voting shares of Countryside Bancshares, Inc., and thereby indirectly acquire Countryside Bank, both of Republic, Missouri.

In connection with this application, Countryside Acquisition Corporation, also has applied to become a bank holding company by acquiring 100 percent of the voting shares of Countryside Bancshares, Inc., and thereby indirectly acquire Countryside Bank, all of Republic, Missouri.

Comments on this application must be received by May 5, 2008.

Board of Governors of the Federal Reserve System, April 11, 2008.
Robert deV. Frierson,
Deputy Secretary of the Board.

[FR Doc. E8-8113 Filed 4-15-08 8:45 am]

BILLING CODE 6210-01-S